DEPARTMENT OF HEALTH AND HUMAN SERVICES

Centers for Disease Control and Prevention

Advisory Committee to the Director (ACD), Centers for Disease Control and Prevention (CDC)

Amendment: A notice of this meeting was published in the Federal Register on August 30, 2016, Volume 81, Number 168, Page 59626. The original notice is amended to include the Advisory Committee to the Director (ACD), Centers for Disease Control and Prevention—Health Disparities Subcommittee (HDS) Meeting on October 19, 2016 as follows:

Time and Date: 8:00 a.m.-4:00 p.m., EDT, October 19, 2016.

Place: CDC, Building 19, Room 151, 1600 Clifton Road NE., Atlanta, Georgia 30329.

Status: Open to the public, limited only by the space available. The meeting room accommodates approximately 50 people. The public is welcome to participate during the public comment period, which is tentatively scheduled from 3:45 p.m. to 3:55 p.m. This meeting is also available by teleconference. Please dial (888) 324-9970 and enter code 32077657.

Purpose: The Subcommittee will contribute to the ACD's advice to the CDC Director on strategic and other health disparities and health equity issues and provide guidance on opportunities for CDC.

Matters for Discussion: The Health Disparities Subcommittee will receive update from STLT Social Determinants of Health (SDOH) Think Tank Collaboration, Funding Opportunity Announcement (FOA) Health Equity Guidance Update and Discussion, HDS priorities, Internal Nomination Process and Update, Health Equity Indicators as well as an update from CDC's Principal Deputy Director.

The agenda is subject to change as priorities dictate.

Contact Person for More Information: Leandris Liburd, Ph.D., M.P.H., M.A., Designated Federal Officer, Health Disparities Subcommittee, Advisory Committee to the Director, CDC, 1600 Clifton Road NE., M/S K-77, Atlanta, Georgia 30329 Telephone (770) 488-8343, Email: xdy8@cdc.gov. The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2016-24365 Filed 10-6-16; 8:45 am]

BILLING CODE 4160-18-P